DEPARTMENT OF HOUSING AND URBAN DEVELOPMENT

[Docket No. FR-7071-N-17]

60-Day Notice of Proposed Information Collection: HUD Conditional Commitment/Direct Endorsement Statement of Appraised Value; OMB Control No.: 2502-0494

AGENCY: Office of the Assistant Secretary for Housing-Federal Housing Commissioner, HUD.

ACTION: Notice.

SUMMARY: HUD is seeking approval from the Office of Management and Budget (OMB) for the information collection described below. In accordance with the Paperwork Reduction Act, HUD is requesting comments from all interested parties on the proposed collection of information. The purpose of this notice is to allow for 60 days of public comment.

DATES: Comments Due Date: November 6, 2023.

ADDRESSES: Interested persons are invited to submit comments regarding this proposal. Written comments and recommendations for the proposed information collection can be submitted within 60 days of publication of this notice to www.reginfo.gov/public/do/PRAMain. Find this particular information collection by selecting “Currently under 60-day Review—Open for Public Comments” or by using the search function. Interested persons are also invited to submit comments regarding this proposal by name and/or OMB Control Number and can be sent to: Colette Pollard, Reports Management Officer, REE, Department of Housing and Urban Development, 451 7th Street SW, Room 8210, Washington, DC 20410-5000 or email at PaperworkReductionActOffice@hud.gov.

FOR FURTHER INFORMATION CONTACT: Colette Pollard, Reports Management Officer, QDAM, Department of Housing and Urban Development, 451 7th Street SW, Room 4176, Washington, DC 20410-5000; email Colette.Pollard@hud.gov or telephone (202) 402-3400 (this is not a toll free number). HUD welcomes and is prepared to receive calls from individuals who are deaf or hard of hearing, as well as individuals with speech or communication disabilities. To learn more about how to make an accessible telephone call, please visit: https://www.fcc.gov/consumers/guides/telecommunications-relay-service-trs.Copies of available documents submitted to OMB may be obtained from Ms. Pollard.

SUPPLEMENTARY INFORMATION: This notice informs the public that HUD is seeking approval from OMB for the information collection described in Section A.

A. Overview of Information Collection

Title of Information Collection: HUD Conditional Commitment/Direct Endorsement Statement of Appraised Value.

OMB Control Number, if applicable: 2502-0494.

Type of Request: Extension of currently approved collection.

Form Number: HUD 92800.5B.

Description of the need for the information and proposed use: Lenders must provide loan applicants a completed copy of Form HUD-92800.5B at or before loan closing. Form HUD-92800.5B serves as the mortgagee's conditional commitment/direct endorsement statement of appraised value of Federal Housing Administration (FHA) mortgage insurance on the property. The form provides a section for the statement of the property's appraised value and other required FHA disclosures to the borrower, including specific conditions that must be met before HUD can endorse a mortgage for FHA insurance. HUD uses the information to determine the eligibility of a property for mortgage insurance.

Respondents: Mortgagees.

Estimated Number of Respondents: 1,407.

Estimated Number of Responses: 562,800.

Frequency of Response: 400.

Average Hours per Response: 0.12.

Total Estimated Burdens: 67,536.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act (44 U.S.C. 3507).

Jeffrey D. Little,
General Deputy Assistant Secretary for Housing, H.

[FR Doc. 2023-19039 Filed 9-1-23; 8:45 am]

BILLING CODE 4210-67-P